DEPARTMENT OF TRANSPORTATION

Federal Railroad Administration

[Docket No. FRA-2015-0063]

Nashville and Eastern Railroad Corporation's Positive Train Control Development Plan, Revision 2.5, Dated June 22, 2016

AGENCY: Federal Railroad Administration (FRA), U.S. Department of Transportation (DOT).

ACTION: Notice of availability and request for comments.

SUMMARY: This document provides public notice of the Nashville and Eastern Railroad Corporation's (NERR) submission to FRA of its Positive Train Control Development Plan (PTCDP) Revision 2.5, dated June 22, 2016, and the availability of NERR's PTCDP for public comment. NERR requests that FRA approve its PTCDP, which describes NERR's Argenia Railway Technologies' Positive Train Control System (SafeNet System) as required under FRA regulations.

DATES: FRA must receive comments by October 27, 2016. FRA may consider comments received after that date if practicable.

ADDRESSES: All communications concerning this proceeding should identify Docket Number FRA-2015-0063 and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

FOR FURTHER INFORMATION CONTACT: Dr. Mark Hartong, Senior Scientific Technical Advisor, at (202) 493-1332 or Mark.Hartong@dot.gov; or Mr. David Blackmore, FRA Railroad Safety Program Manager for Applied Technology, at (312) 835-3903 or David.Blackmore@dot.gov.

SUPPLEMENTARY INFORMATION: In its PTCDP, NERR states the SafeNet System it is implementing is designed as a non-vital overlay PTC system under 49 CFR 236.1015(e)(1). The PTCDP describes NERR's SafeNet System implementation per 49 CFR 236.1013. During its review of the PTCDP, FRA will consider whether the SafeNet System satisfies the requirements for PTC systems under 49 CFR part 236, subpart I and whether the PTCDP makes a reasonable showing a system built to the stated requirements would achieve the level of safety mandated for such a system under 49 CFR 236.1015, PTC Safety Plan content requirements and PTC System Certification. If so, in addition to approving NERR's PTCDP, FRA, in its discretion, may issue a Type Approval for the SafeNet System. See 49 CFR 236.1013(b)-(d).

NERR's PTCDP is available for review online at www.regulations.gov (Docket No. FRA-2015-0063, document no. 0004 titled “Nashville and Eastern Railroad—Withdrawal”) and in person at DOT's Docket Operations Facility, 1200 New Jersey Avenue SE., W12-140, Washington, DC 20590. The Docket Operations Facility is open from 9 a.m. to 5 p.m., Monday through Friday, except Federal Holidays.

Interested parties may comment on the PTCDP by submitting written comments or data. During its review of the PTCDP, FRA will consider any relevant comments or data submitted. However, FRA may elect not to respond to any particular comment and, under 49 CFR 236.1013(b), FRA maintains authority to approve or disapprove the PTCDP at its sole discretion. FRA does not anticipate scheduling a public hearing regarding NERR's PTCDP because the circumstances do not appear to warrant a hearing. If an interested party desires an opportunity for oral comment, the party must notify FRA in writing before the end of the comment period and specify the basis for the request.

Privacy Act Notice

Anyone can search the electronic form of any written communications and comments received into any of our dockets by the name of the individual submitting the comment (or signing the document, if submitted on behalf of an association, business, labor union, etc.). Under 49 CFR 211.3, FRA solicits comments from the public to better inform its decisions. DOT posts these comments, without edit, including any personal information the commenter provides, to www.regulations.gov, as described in the system of records notice (DOT/ALL-14 FDMS), which you can review at www.dot.gov/privacy. See https://www.regulations.gov/privacyNotice for the regulations.gov privacy notice.

Issued in Washington, DC, on September 16, 2016.
Robert C. Lauby,
Associate Administrator for Railroad Safety Chief Safety Officer.

[FR Doc. 2016-23262 Filed 9-26-16; 8:45 am]

BILLING CODE 4910-06-P